DEPARTMENT OF ENERGY

Federal Energy Regulatory Commission

[Docket No. CP20-503-000]

Northern Natural Gas Company; Notice of Schedule for Environmental Review of the Northern Lights 2021 Expansion Project

On July 31, 2020, Northern Natural Gas Company (Northern) filed an application in Docket No. CP20-503-000 requesting a Certificate of Public Convenience and Necessity and authorization pursuant to Section 7 of the Natural Gas Act to construct, modify, replace, and operate certain natural gas pipeline facilities in Minnesota. The proposed project is known as the Northern Lights 2021 Expansion Project (Project) and would provide 45,693 dekatherms per day (Dth/day) of incremental winter peak day firm service for residential, commercial, and industrial customers in Northern's Market Area.

On August 12, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—December 15, 2020

90-day Federal Authorization Decision—Deadline March 15, 2021

If a schedule change becomes necessary, additional notice will be provided so that the relevant agencies are kept informed of the Project's progress.

Project Description

The Northern Lights 2021 Expansion Project would consist of the following facilities in Minnesota:

• The Willmar D Branch Line Extension (about 0.8 mile of 24-inch-diameter pipeline) in Dakota and Scott counties;

• the Carlton Interconnect Loop (about 0.7 mile of 24-inch-diameter pipeline) in Carlton County;

• replacement of 425 feet of 8-inch-diameter pipeline on the Viking Interconnect Branch Line with a 12-inch-diameter branch line of the same length, in Morrison County;

• a new greenfield natural gas-fired Hinckley Compressor Station in Pine County, which would include one 11,153-horsepower natural gas-fired turbine, one gas heating skid, and one natural gas-fired backup electric generator;

• modification of the Pierz Compressor Station in Morrison County, including a 1,100 horsepower electric motor-driven compressor unit; and

• appurtenant facilities including one new pig ¹ receiver and one new pig launcher, and associated piping and valves.

¹ A pig is a tool that the pipeline company inserts into and pushes through the pipeline for cleaning the pipeline, conducting internal inspections, or other purposes.

Background

On July 9, 2020, the Commission issued a Notice of Intent to Prepare an Environmental Assessment for the Planned Northern Lights 2021 Expansion Project and Request for Comments on Environmental Issues (NOI). The NOI was issued during the pre-filing review of the Project in Docket No. PF20-1-000 and was sent to affected landowners; federal, state, and local government agencies; elected officials; environmental and public interest groups; Native American tribes; other interested parties; and local libraries and newspapers. In response to the NOI, the Commission received comments from the U.S. Environmental Protection Agency, the Minnesota Department of Transportation, the Minnesota Pollution Control Agency, City of Hinckley, International Union of Operating Engineers, and two landowners. The primary issues raised by the commentors include compressor station noise and vibration, tree clearing, roadway crossings, water resources and wetlands, farmland, and socioeconomic impacts. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-503), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 30, 2020.
Kimberly D. Bose,
Secretary.

[FR Doc. 2020-22034 Filed 10-5-20; 8:45 am]

BILLING CODE 6717-01-P